DEPARTMENT OF HEALTH AND HUMAN SERVICES

Centers for Disease Control and Prevention

[30-Day-13-0706]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

National Program of Cancer Registries Program Evaluation Instrument (NPCR-PEI) (OMB No. 0920-0706, exp. 12/31/2011)—Reinstatement—National Center for Chronic Disease Prevention and Health Promotion (NCCDPHP), Centers for Disease Control and Prevention (CDC).

Background and Brief Description

The National Program of Cancer Registries (NPCR), administered by the Centers for Disease Control and Prevention (CDC), was established to provide funding for states and territories to: (1) Improve existing state-based cancer registries; (2) plan and implement registries where none existed; (3) develop model legislation and regulations for states to enhance the viability of registry operations; (4) set standards for data completeness, timeliness, and quality; (5) provide training for registry personnel; and (6) help establish a computerized reporting and data-processing system. Through the NPCR, CDC currently provides cooperative agreement funding to 48 population-based central cancer registries (CCR) in 45 states, the District of Columbia, Puerto Rico, and the Pacific Islands jurisdictions. The National Cancer Institute supports the operations of CCR in the five remaining states.

Through the NPCR, CDC provides technical assistance and sets program standards to assure that complete cancer incidence data are available for national- and state-level cancer control and prevention activities and other health planning activities. NPCR-funded CCR are the primary source of cancer surveillance data for United States Cancer Statistics (USCS), which CDC has published annually since 2002.

CDC has previously collected information from NPCR awardees to monitor their performance in meeting the required NPCR Program Standards (NPCR Program Evaluation Instrument, OMB No. 0920-0706, exp. 12/31/2011). The NPCR Program Evaluation Instrument (PEI) is a secure, web-based method of collecting information about registry operations, including: staffing, legislation, administration, reporting completeness, data exchange, data content and format, data quality assurance, data use, collaborative relationships, and advanced activities.

Since 2009, data collection had been conducted on a biennial schedule in odd-numbered years. The most recent PEI reports were submitted to CDC in 2011. In late 2011, CDC discontinued the NPCR PEI clearance in preparation for a review of NPCR program standards. At this time, CDC seeks OMB approval to reinstate the NPCR PEI clearance. Minor changes to the PEI will be implemented based on the revised NPCR standards. Additional changes incorporated into the Reinstatement request include a reduction in the estimated number of NPCR awardees (from 49 to 48) and an increase in the estimated burden per response (from 1.5 hours to 2 hours).

Information will continue to be collected electronically in odd-numbered years. OMB approval is requested for three years to support data collection in 2013 and 2015. The total number of NPCR awardees is 48. For two cycles of data collection over a three-year period, the annualized number of respondents is 32 (48+48/3=32).

The NPCR-PEI data collection is needed to evaluate, aggregate, and disseminate NPCR program information. CDC and the NPCR-funded registries will use the data to monitor progress toward meeting objectives and established program standards; to describe various attributes of the NPCR-funded registries; and to respond to inquiries about the program.

There are no costs to respondents except their time. The total estimated annualized burden hours are 64.

Estimated Annualized Burden Hours
Type of respondents | Form name | Number of respondents | Number of responses per respondent | Average burden per response (in hr)
NPCR Awardees | PEI | 32 | 1 | 2

Ron A. Otten,
Director, Office of Scientific Integrity, Office of the Associate Director for Science, Office of the Director, Centers for Disease Control and Prevention.

[FR Doc. 2013-09360 Filed 4-19-13; 8:45 am]

BILLING CODE 4163-18-P